DEPARTMENT OF THE INTERIOR

Fish and Wildlife Service

50 CFR Part 17

RIN 1018-AU66

Endangered and Threatened Wildlife and Plants; Final Rule To Remove the Idaho Springsnail (Pyrgulopsis(=Fontelicella) idahoensis) From the List of Endangered and Threatened Wildlife

AGENCY: Fish and Wildlife Service, Interior.

ACTION: Final rule.

SUMMARY: We, the U.S. Fish and Wildlife Service (USFWS, Service, or we), under the Endangered Species Act of 1973, as amended (Act), hereby remove the Idaho springsnail (Pyrgulopsis(=Fontelicella) idahoensis) from the Federal List of Endangered and Threatened Wildlife (List). This determination is based on a thorough review of all available data, which indicate that the Idaho springsnail is not a discrete taxonomic entity and does not meet the definition of a species under the Act. It is now considered to be part of a more widely distributed taxon, the Jackson Lake springsnail. Because the Idaho springsnail is not recognized as a species, as defined by the Act, we have determined that it is not a listable entity and are removing it from the List.

DATES: This rule is effective September 5, 2007.

FOR FURTHER INFORMATION CONTACT: Susan Burch, U.S. Fish and Wildlife Service, 1387 S. Vinnell Way, Room 368, Boise, ID 83709 (telephone 208/378-5243; facsimile 208/378-5262).

SUPPLEMENTARY INFORMATION:

Background

The Idaho springsnail (Pyrgulopsis(=Fontelicella) idahoensis; Hydrobiidae) was first described by Pilsbry (1933, pp. 11-12) and placed in the genus Amnicola. Subsequently, Greg and Taylor (1965, pp. 103-110) placed the Idaho springsnail—along with the Harney Lake springsnail (P. hendersoni), and Jackson Lake springsnail (P. robusta)—in the newly created Fontelicella genus and Natricola subgenus. After several taxonomic revisions, the subgenus Natricola was subsumed under the genus Pyrgulopsis (Hershler and Thompson 1987, pp. 28-31), the largest genus of freshwater mollusks in North America, comprised of over 120 described species (Liu and Hershler 2005, p. 284). The genus occurs in much of eastern North America, throughout western North America, and in parts of northern Mexico (Hershler and Thompson 1987, p. 30). The genus expresses its greatest diversity in the Great Basin of the western United States, where most species are endemic to springs, spring systems, and drainage basins (Hershler and Sada 2000, p. 367; Hershler and Sada 2002, p. 255).

In 2004, Hershler and Liu (2004, pp. 78-79) revised the taxonomic status of four Pyrgulopsis springsnail species—the Idaho springsnail, Harney Lake springsnail, Jackson Lake springsnail, and Columbia springsnail (P. species A (unnamed))—by combining them into a single species and, following standard naming conventions, naming this combined taxon for the first taxon to be described among the four previously recognized species, the Jackson Lake springsnail (Walker 1908, p. 97). The authors reviewed morphological characters, mitochondrial DNA sequences, and nuclear DNA sequences to establish the revised taxonomic classification.

The methods employed by Hershler and Liu (2004, pp. 67-70) are considered contemporary in the field of genetics and are consistent with those used by numerous authors reconstructing phylogenies based on molecular evidence in general (Raahauge and Kristensen 2000, pp. 87-89; Jones et al. 2001, pp. 281; Attwood et al. 2003, pp. 265-266), and with western hydrobiid snails in particular (Hershler et al. 2003, pp. 358-359; Liu et al. 2003, pp. 2772-2775; Hurt 2004, pp. 1174-1177; Liu and Hershler 2005, p. 285). Further, it is the position of the American Malacological Society that the Hershler and Liu (2004) revised taxonomy sets the standard for understanding this group of springsnails until evidence is presented to refute this classification (Leal in litt. 2004). Therefore, Hershler and Liu (2004, pp. 66-81) represents the best available scientific and commercial data on the taxonomic status of the four previously recognized Pyrgulopsis springsnails. These springsnails are now considered to be a single species, the Jackson Lake springsnail—a species we recently determined, in a 12-month finding (71 FR 56938), does not warrant listing under the Act.

Previous Federal Actions

We published the final rule listing the Idaho springsnail as endangered on December 14, 1992 (57 FR 59244). At the time of listing we believed that the species was restricted to small populations in permanent, flowing waters of the mainstem Snake River from rm 518 (rkm 834) to rm 553 (rkm 890). In that rule, we described range reduction, the threat of dam construction, operation of existing hydroelectric dams, deteriorating water quality from multiple sources, and potential competition with the invasive New Zealand mudsnail (Potamopyrgus antipodarum) as the major threats to the species. We have not designated critical habitat for the Idaho springsnail.

On June 28, 2004, we received a petition from the Idaho Office of Species Conservation and the Idaho Power Company (IPC) requesting that the Idaho springsnail be delisted based on a recent taxonomic revision of the species. The petitioners also provided new Idaho springsnail scientific information, and contrasted this new information with information used in the 1992 Idaho springsnail listing decision (57 FR 59244). The petitioners stated that, based on this new information, threats to the Idaho springsnail identified in the 1992 listing rule have been eliminated, are being actively addressed by State and private entities, or are no longer relevant.

On August 5, 2004, we received a petition from Dr. Peter Bowler, the Biodiversity Conservation Alliance, the Center for Biological Diversity, the Center for Native Ecosystems, the Western Watersheds Project, and the Xerces Society, requesting that the Jackson Lake springsnail, Harney Lake springsnail, and Columbia springsnail be listed as either threatened or endangered species, either as individual species or, together with the Idaho springsnail, as a single new species. The listing petition discussed the recent taxonomic revision and acknowledged that the Jackson Lake springsnail, Harney Lake springsnail, Columbia springsnail, and Idaho springsnail may be one species, but contended that, whether considered individually or as one species, all four springsnails warranted the protection of the Act. (16 U.S.C. 1531 et seq.) The petition cited habitat loss and degradation from development of springs, domestic livestock grazing, and groundwater withdrawal, among other factors, as threats to the continued existence of these springsnails.

On April 20, 2005, we published combined 90-day petition findings (70 FR 20512), stating that both petitions provided substantial information suggesting that delisting of the Idaho springsnail, or listing of the Jackson Lake springsnail (both the new and the old taxonomic grouping), the Harney Lake springsnail, and the Columbia springsnail, may be warranted.

On September 28, 2006, we published a warranted 12-month finding on the petition to delist the endangered Idaho springsnail along with a not warranted 12-month finding on the petition to list the Jackson Lake springsnail (both the new and the old taxonomic grouping), Harney Lake springsnail, and Columbia springsnail. Concurrent with these findings we published a proposed rule to remove the Idaho springsnail from the List of Endangered and Threatened Wildlife due to the change in its taxonomic status (71 FR 56938).

Summary of Comments and Recommendations

In our September 28, 2006, combined 12-month finding and proposed rule (71 FR 56938), we requested that all interested parties submit comments or information concerning the proposed delisting of the Idaho springsnail. We provided notification of this document through e-mail, telephone calls, letters, and news releases faxed and/or mailed to the appropriate Federal, State, and local agencies, county governments, elected officials, media outlets, local jurisdictions, scientific organizations, interested groups, and other interested parties. We also posted the document on our regional Web site.

We accepted public comments on the proposal for 60 days, ending November 27, 2006. By that date, we received comments from three parties, specifically one law firm representing the State of Idaho's Office of Species Conservation and IPC, and two organizations.

In accordance with our peer review policy published on July 1, 1994 (59 FR 34270), we solicited independent opinions from four knowledgeable individuals who have expertise with the genus Pyrgulopsis, who possess a current knowledge of the geographic region where the species occurs, and/or are familiar with the principles of conservation biology. We received comments from four peer reviewers, three of whom are associated with academic research institutions and one who is employed by the U.S. Geological Survey (USGS).

We reviewed all comments received from peer reviewers and the public for substantive issues and new information regarding the proposed delisting of the Idaho springsnail. Substantive comments received during the comment period are addressed below.

We also received several comments from both the public and peer reviewers concerning threats to the Jackson Lake springsnail because our proposed rule to delist the Idaho springsnail due to taxonomic revision was published jointly with our 12-month finding on a petition to list the Jackson Lake springsnail (71 FR 56938). However, we addressed the threats to the Jackson Lake springsnail in our 12-month finding and found that listing was not warranted. Therefore, comments on the threats to the Jackson Lake springsnail are outside the scope of the proposed rule to delist the Idaho springsnail and those comments are not addressed in this final rule.

Public Comments

(1) Comment: The Idaho springsnail is more widespread than previously known at the time of its listing and is more resilient and less vulnerable to certain habitat-altering activities than previously thought.

Response: Although the Idaho springsnail is no longer recognized as a discreet taxon, the formerly recognized species is now known from more locations than at the time of listing and appears to be more resilient and less vulnerable to certain habitat-altering activities than previously thought. We appreciate the efforts of those who collected and synthesized information to expand our understanding of Pyrgulopsis taxonomy and ecology.

(2) Comment: Despite their conclusions, the data presented by Hershler and Liu (2004) illustrate the geographic, morphological, and genetic divergence of the Idaho springsnail from other springsnails in the region, and therefore the Idaho springsnail should continue to be protected under the Act.

Response: In a recent scientific article by Hershler and Liu (2004), published in the Veliger (an international, peer-reviewed scientific quarterly published by the California Malacozoological Society), the authors revised the taxonomic status of the Idaho springsnail, combining it with three other groups of Natricola springsnails. Hershler and Liu (2004, p. 77) concluded “three independent data sets (morphology, mitochondrial, and nuclear DNA sequences) congruently suggest that these four Natricola snails do not merit recognition as distinct species according to various currently applied concepts of this taxonomic rank.” For the reasons stated in the Background section of this final rule, we believe that Hershler and Liu (2004, pp. 66-81) represents the best available scientific and commercial data on the taxonomic status of the four Natricola springsnails and that the Idaho springsnail no longer constitutes a distinct species and does not warrant protection under the Act.

(3) Comment: The ecological and evolutionary divergence of the Idaho springsnail is significant and would easily qualify it for continued protection as a distinct population segment under the Act.

Response: Section 4(a)(1) of the Act outlines the factors for which we may list an endangered or threatened species. Section 3 of the Act defines an endangered species as “any species which is in danger of extinction throughout all or a significant portion of its range,” and a threatened species as “any species which is likely to become an endangered species throughout all or a significant portion of its range.” Section 3 of the Act also defines a species to include any subspecies of fish or wildlife or plants, and any distinct population segment of any species of vertebrate fish or wildlife which interbreeds when mature. Because springsnails are invertebrates, they do not qualify for protection as a distinct population segment under the Act.

(4) Comment: The Service should specify in its final rule that delisting of the Idaho springsnail is warranted due to recovery and original data for classification in error.

Response: Section 4(a)(1) of the Act and regulations (50 CFR part 424) issued to implement the listing provisions of the Act set forth the procedures for adding species to, or removing them from, Federal lists. The regulations at 50 CFR 424.11(d) state that a species may be delisted if: (1) The species is extinct or has been extirpated from its previous range; (2) the species has recovered and is no longer endangered or threatened; or (3) investigations show that the best scientific or commercial data available when the species was listed, or the interpretation of such data, were in error. Since the time of the Idaho springsnail listing in 1992, genetics research and additional survey effort have revealed that it is not a distinct species, but is now part of a combined taxon that is widely distributed (occurring in Wyoming, Oregon, Idaho, and Washington) and occurs in a variety of habitat types.

We acknowledge that numerous recovery actions were implemented for the Idaho springsnail, and we commend the State of Idaho, IPC, and other conservation partners for their ongoing efforts to conserve listed species, but the primary reason we are removing the Idaho springsnail from the List is its taxonomic reclassification.

Peer Review Comments

(1) Comment: Data presented in the combined 12-month finding and proposed rule support the case for combining the Idaho springsnail under the Jackson Lake springsnail as recommended by Hershler and Liu (2004), but further ecological, biological, and population genetic evidence would greatly strengthen this case.

Response: We acknowledge that more scientific inquiry and subsequent information may strengthen the case for Hershler and Liu's (2004) taxonomic revisions with the Pyrgulopsis genus; however, our charge is to use the best available commercial and scientific information in our assessments. Hershler and Liu (2004) published their taxonomic review of the Idaho springsnail, the Harney Lake springsnail, the Jackson Lake springsnail, and the Columbia springsnail in a peer-reviewed scientific journal and determined that they were all one species. No other peer-reviewed scientific studies have been published that challenge the veracity or conclusions of Hershler and Liu (2004). Furthermore, it is the position of the American Malacological Society that the Hershler and Liu (2004) revised taxonomy sets the standard for understanding this group of springsnails (Leal in litt. 2004). Therefore, we believe that Hershler and Liu (2004) currently represents the best scientific information available with respect to Idaho springsnail taxonomy.

(2) Comment: The Service appears to be delisting the Idaho springsnail solely because it is more wide-ranging than thought at the time of listing, regardless of the fact that we know relatively little about the species as a whole.

Response: Although the range of the Jackson Lake springsnail was one factor that contributed to our “not warranted” petition finding for that species (see 71 FR 56938), our decision to delist the Idaho springsnail is based on the fact that it is not currently recognized as a valid species as defined by the Act.

Delisting Analysis

After a review of all information available, we are removing the Idaho springsnail from the List of Endangered and Threatened Wildlife. Section 4(a)(1) of the Act and regulations (50 CFR part 424) issued to implement the listing provisions of the Act set forth the procedures for adding species to or removing them from Federal lists. The regulations at 50 CFR 424.11(d) state that a species may be delisted if (1) it becomes extinct, (2) it recovers, or (3) the original classification data were in error.

New scientific information has become available since we listed the Idaho springsnail in 1992. Most pertinent among this new information is a taxonomic reappraisal of Natricola snails, published by Hershler and Liu (2004), in a peer-reviewed scientific journal. Their study indicated that this formerly recognized species has been subsumed by a more widely distributed taxon. Because the Idaho springsnail is no longer considered a species as defined by the Act, it does not qualify for listing under the Act. The original classification data related to Pyrgulopsis taxonomy, although considered the best available information at the time of listing, are now thought to be in error.

When a listed species is subsumed by another entity, we believe it is prudent to examine the status of the new entity before delisting the subsumed taxon. In our combined 12-month finding and proposed rule we considered whether listing the Jackson Lake springsnail was warranted, and found that it was not (71 FR 56938).

Effects of This Rule

This action removes the Idaho springsnail from the List of Endangered and Threatened Wildlife. The prohibitions and conservation measures provided by the Act, particularly under sections 7 and 9, no longer apply to the Idaho springsnail. Federal agencies no longer are required to consult with the Service under section 7 of the Act on actions they fund, authorize, or carry out that may affect the Idaho springsnail. There is no designated critical habitat for the Idaho springsnail.

Paperwork Reduction Act of 1995 (44 U.S.C. 3501 et seq.)

This rule does not contain any new collections of information that require Office of Management and Budget (OMB) approval under the Paperwork Reduction Act. We may not conduct or sponsor, and you are not required to respond to, a collection of information unless it displays a currently valid OMB control number.

National Environmental Policy Act

The Service has determined that Environmental Assessments and Environmental Impact Statements, as defined under the authority of the National Environmental Policy Act of 1969 (42 U.S.C. 4321 et seq.), need not be prepared in connection with actions adopted under section 4(a) of the Act. We published a notice outlining our reasons for this determination in the Federal Register on October 25, 1983 (48 FR 49244). This assertion was upheld in the courts of the Ninth Circuit (Douglas County v. Babbitt, 48 F.3d 1495 (9th Cir. Ore. 1995), cert. denied 116 S. Ct. 698 (1996)).

Government-to-Government Relationship With Tribes

In accordance with the President's memorandum of April 29, 1994, “Government-to-Government Relations with Native American Tribal Governments” (59 FR 22951), Executive Order 13175, and the Department of the Interior's manual at 512 DM 2, we readily acknowledge our responsibility to communicate meaningfully with recognized Federal Tribes on a government-to-government basis. Therefore, we have solicited information from Native American Tribes during the comment period and informational briefing to determine potential effects on them or their resources that may result from the delisting of the Idaho springsnail.

References

A complete list of all references cited is available on request from the Snake River Fish and Wildlife Office, 1387 S. Vinnell Way, Room 368, Boise, ID 83709.

Author

The primary authors of this document are staff of the U.S. Fish and Wildlife Service (see References Section above).

List of Subjects in 50 CFR Part 17

Endangered and threatened species, Exports, Imports, Reporting and recordkeeping requirements, Transportation.

Regulation Promulgation

Accordingly, we amend part 17, subchapter B of chapter I, title 50 of the Code of Federal Regulations, as follows:

PART 17 [AMENDED]

1. The authority citation for part 17 continues to read as follows:

Authority: 16 U.S.C. 1361-1407; 16 U.S.C. 1531-1544; 16 U.S.C. 4201-4245; Pub. L. 99-625, 100 Stat. 3500; unless otherwise noted.

§ 17.11 [Amended].

2. Amend § 17.11(h) by removing the entry “Springsnail, Idaho (Fontelicella idahoensis)” under “SNAILS” from the List of Endangered and Threatened Wildlife.

Dated: July 26, 2007.
Randall Luthi,
Acting Director, Fish and Wildlife Service.

[FR Doc. E7-15111 Filed 8-2-07; 8:45 am]

BILLING CODE 4310-55-P